DEPARTMENT OF THE INTERIOR

National Park Service

[N6624; NPS-WASO-NAGPRA-NPS0041355; PPWOCRADN0-PCU00RP14.R50000]

Notice of Inventory Completion: Arizona State Museum, University of Arizona, Tucson, AZ

AGENCY: National Park Service, Interior.

ACTION: Notice.

SUMMARY: In accordance with the Native American Graves Protection and Repatriation Act (NAGPRA), the Arizona State Museum, University of Arizona (Arizona State Museum), has completed an inventory of human remains and associated funerary objects and has determined that there is a cultural affiliation between the human remains and associated funerary objects and Indian Tribes or Native Hawaiian organizations in this notice.

DATES: Repatriation of the human remains and associated funerary objects in this notice may occur on or after January 15, 2026.

ADDRESSES: Send written requests for repatriation of the human remains and associated funerary objects in this notice to Cristin Lucas, Arizona State Museum, 1013 East University Boulevard, Tucson, AZ 85721-0026, email lucasc@arizona.edu.

SUPPLEMENTARY INFORMATION: This notice is published as part of the National Park Service's administrative responsibilities under NAGPRA. The determinations in this notice are the sole responsibility of the Arizona State Museum, and additional information on the determinations in this notice, including the results of consultation, can be found in the inventory or related records. The National Park Service is not responsible for the determinations in this notice.

Abstract of Information Available

Based on the information available, human remains representing, at least, one individual have been reasonably identified. The one associated funerary object is a ceramic pitcher. On an unknown date prior to June 1933, one individual and their associated funerary object was recovered from an unknown Salado site in the vicinity of Roosevelt Lake (AZ U:8:—Roosevelt Lake vicinity), in either Gila or Maricopa County, Arizona. In June 1933, the individual and their funerary object were donated to ASM. No additional information is available from archival records housed at ASM. No known individuals have been identified.

Cultural Affiliation

Based on the information available and the results of consultation, cultural affiliation is reasonably identified by the geographical location or acquisition history of the human remains and associated funerary objects described in this notice.

Determinations

The Arizona State Museum has determined that:

• The human remains described in this notice represent the physical remains of one individual of Native American ancestry.

• The one object described in this notice is reasonably believed to have been placed intentionally with or near individual human remains at the time of death or later as part of the death rite or ceremony.

• There is a reasonable connection between the human remains and associated funerary objects described in this notice and the Ak-Chin Indian Community; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 15, 2026. If competing requests for repatriation are received, the Arizona State Museum must determine the most appropriate requestor prior to repatriation. Requests for joint repatriation of the human remains and associated funerary objects are considered a single request and not competing requests. The Arizona State Museum is responsible for sending a copy of this notice to the Indian Tribes and Native Hawaiian organizations identified in this notice.

Authority: Native American Graves Protection and Repatriation Act, 25 U.S.C. 3003, and the implementing regulations, 43 CFR 10.10.

Dated: November 19, 2025.
Melanie O'Brien,
Manager, National NAGPRA Program.

[FR Doc. 2025-22900 Filed 12-15-25; 8:45 am]

BILLING CODE 4312-52-P